DEPARTMENT OF HEALTH AND HUMAN SERVICES

Centers for Medicare & Medicaid Services

[Document Identifier: CMS-10237, CMS-10357 and CMS-10499]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by November 3, 2014.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 or Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of a currently approved collection; Title of Information Collection: Part C—Medicare Advantage and 1876 Cost Plan Expansion Application; Use: The information will be collected under the solicitation of Part C applications from MA, EGWP Plan, and Cost Plan applicants and will be used to ensure that applicants meet our requirements and support the determination of contract awards. Participation in all programs is voluntary in nature; only organizations that are interested in participating in the program will respond to the solicitation. The MA-PDs that voluntarily participate in the Part C program must submit a Part D application and successful bid. The package has been revised subsequent to the publication of the 30-day Federal Register notice (July 11, 2014; 79 FR 40105). Form Number: CMS-10237 (OMB control number: 0938-0935); Frequency: Yearly; Affected Public: Private sector—Business or other for-profits and Not-for-profit institutions; Number of Respondents: 566; Total Annual Responses: 566; Total Annual Hours: 22,625. (For policy questions regarding this collection contact Melissa Staud at 410-786-3669).

2. Type of Information Collection Request: Reinstatement without change of a previously approved collection: Title of Information Collection: Letter Requesting Waiver of Medicare/Medicaid Enrollment Application Fee; Submission of Fingerprints; Submission of Medicaid Identifying Information; Medicaid Site Visit and Rescreening; Use: Section 6401 of the Affordable Care Act (ACA) establishes a number of important payment safeguard provisions. The provisions are designed to improve the integrity of the Medicare, Medicaid, and Children's Health Insurance Programs (CHIP) so as to reduce fraud, waste and abuse. The provisions include the following:

• Medicare Enrollment Application Fee Waiver Request: Certain providers and suppliers enrolling in Medicare will be required to submit a fee with their application. Under 42 CFR 424.514, if the applicant believes it has a hardship that justifies a waiver of the application fee, it may submit a letter describing said hardship.

• Fingerprints: Certain providers and suppliers enrolling in Medicare, Medicaid, and CHIP will be required to submit fingerprints—either digitally or via the FD-258 standard fingerprint card—of their owners.

• Suspension of Medicaid Payments: A State Medicaid agency shall suspend all Medicaid payments to a provider when there is a pending investigation of a credible allegation of Medicaid fraud against an individual or entity, unless it has good cause not to suspend payments or to suspend payment only in part. The State Medicaid agency may suspend payments without first notifying the provider of its intention to suspend such payments. A provider may request, and must be granted, administrative review where State law so requires.

• Collection of Social Security Numbers (SSNs) and Dates of Birth (DOBs) for Medicaid and CHIP Providers: The State Medicaid agency or CHIP agency must require that all persons with an ownership or control interest in a Medicaid or CHIP provider submit their SSNs and DOBs.

• Site Visits for Medicaid-only or CHIP-only providers: A State Medicaid agency or CHIP agency must conduct on-site visits for providers it determines to be “moderate” or “high” categorical risk.

• Rescreening of Medicaid and CHIP Providers Every 5 Years: A State Medicaid agency or CHIP agency must screen all providers at least every 5 years. This is consistent with the Medicare requirement in current 42 CFR 424.515 that providers and suppliers revalidate their enrollment information at least every 5 years.

Form Number: CMS-10357 (OMB control number: 0938-1137); Frequency: On occasion; Affected Public: Private sector—Business or for-profit and Not-for-profit institutions and State, Local, or Tribal Governments; Number of Respondents: 960,981; Total Annual Responses: 960,981; Total Annual Hours: 1,248,082. (For policy questions regarding this collection contact Frank Whelan at 410-786-1302).

3. Type of Information Collection Request: New collection (Request for a new OMB control number); Title of Information Collection: Public Health Agency/Registry Readiness to Support Meaningful Use; Use: The Medicare and Medicaid Electronic Health Record (EHR) Incentive Programs provide incentives for the meaningful use of Certified Electronic Health Record Technology (CEHRT). We defined meaningful use as a set of objectives and measures in either Stage 1 or Stage 2 depending on how long an eligible provider has participated in the program. Both Stage 1 (3 objectives) and Stage 2 (5 objectives) of meaningful use contain objectives and measures that require eligible providers to determine the readiness of public health agencies and registries to receive electronic data from CEHRT. Public comments on the notice of proposed rulemaking for Stage 2 of meaningful use (77 FR 13697) asserted that the burden for each individual eligible provider to determine the readiness of multiple public health agencies and registries could be nearly eliminated if we were to maintain a database on the readiness of public health agencies and registries. In the final rule for Stage 2 of meaningful use (77 FR 53967), we agreed that the burden on eligible providers, public health agencies and registries would be greatly reduced and established that we would create such a database and it would serve as the definitive information source for determining public health agency and registry readiness to receive electronic data associated with the public health meaningful use objectives. The information will be made publicly available on the CMS Web site (www.cms.gov/EHRincentiveprograms) in order to provide a centralized repository of this information to eligible providers and eliminate there multiple individual inquiries to multiple public health agencies and registries. Form Number: CMS-10499 (OMB control number: 0938—New); Frequency: Yearly; Affected Public: Private sector—Business or other for-profits and Not-for-profit institutions; Number of Respondents: 250; Total Annual Responses: 250; Total Annual Hours: 83. (For policy questions regarding this collection contact Kathleen Connors de Laguna at 410-786-2256).

Dated: September 30, 2014.
Martique Jones,
Director, Regulations Development Group, Office of Strategic Operations and Regulatory Affairs.

[FR Doc. 2014-23614 Filed 10-2-14; 8:45 am]

BILLING CODE 4120-01-P